DEPARTMENT OF THE INTERIOR

Minerals Management Service

Outer Continental Shelf (OCS), Request for Information and Interest in a Commercial Sand and Gravel Lease Sale Offshore Northern New Jersey

AGENCY: Minerals Management Service (MMS), Interior.

ACTION: Change starting time for information meeting.

SUMMARY: The information meeting scheduled to be held in Bradley Beach, New Jersey, on February 28, 2000, will begin at 7:30 p.m., and not 7:00 p.m., as previously announced in the Federal Register at Vol. 65, No. 6, Page 1413, “Outer Continental Shelf Request for Information and Interest in a Commercial Sand and Gravel Lease Sale Offshore Northern New Jersey.”

FOR FURTHER INFORMATION CONTACT: Carol A. Hartgen, Chief, International Activities and Marine Minerals Division, (703) 787-1300.

Dated: February 1, 2000.
Carol A. Hartgen,
Chief, International Activities and Marine Minerals Division, Minerals Management Service.

[FR Doc. 00-2622 Filed 2-4-00; 8:45 am]

BILLING CODE 4310-MR-M